ENVIRONMENTAL PROTECTION AGENCY

[FRL-9134-4]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses To Agency Clearance Requests

OMB Approvals

EPA ICR Number 2219.03; Tips and Complaints Regarding Environmental Violations (Renewal); was approved on 03/01/2010; OMB Number 2020-0032; expires on 03/31/2013; Approved without change.

EPA ICR Number 2356.02; NESHAP for Chemical Preparations Industry; 40 CFR 63.11579-63.11588; was approved on 03/03/2010; OMB Number 2060-0636; expires on 03/31/2013; Approved without change.

EPA ICR Number 2354.02; NESHAP for Prepared Feeds Manufacturing; 40 CFR part 63, subpart A and 40 CFR part 63, subpart DDDDDDD; was approved on 03/03/2010; OMB Number 2060-0635; expires on 03/31/2013; Approved without change.

EPA ICR Number 1060.15; NSPS for Steel Plants: Electric Arc Furnaces and Argon-Oxygen Decarburization Vessels; 40 CFR part 60, subpart A and 40 CFR part 60, subparts AA and AAa; was approved on 03/08/2010; OMB Number 2060-0038; expires on 03/31/2013; Approved without change.

EPA ICR Number 2308.02; OECD SLAB Revisions (Final Rule); 40 CFR parts 262, 264, 265, 266 and 271, was approved on 03/10/2010; OMB Number 2050-0201; expires on 03/31/2013; Approved without change.

EPA ICR Number 2050.04; NESHAP for Taconite Iron Ore Processing; 40 CFR part 63, subpart A and 40 CFR part 63, subpart RRRRR; was approved on 03/12/2010; OMB Number 2060-0538; expires on 03/31/2013; Approved without change.

EPA ICR Number 1893.05; Emission Guidelines and Compliance Times for Municipal Solid Waste Landfills; 40 CFR part 60, subpart A, 40 CFR part 60, subpart Cc, 40 CFR part 62, subpart GGG; was approved on 03/12/2010; OMB Number 2060-0430; expires on 03/31/2013; Approved without change.

EPA ICR Number 1415.09; NESHAP for Perchlorethylene Dry Cleaning Facilities; 40 CFR part 63, subpart A and 40 CFR part 63, subpart M; was approved on 03/15/2010; OMB Number 2060-0234; expires on 03/31/2013; Approved with change.

EPA ICR Number 1899.06; EG for Hospital/Medical/Infectious Waste Incinerators; 40 CFR part 60, subpart A, 40 CFR part 60, subpart Ce, 40 CFR part 62, subpart HHH; was approved on 03/18/2010; OMB Number 2060-0422; expires on 09/30/2012; Approved with change.

EPA ICR Number 2328.01; Pressed Wood Manufacturing Industry Survey; was approved on 03/25/2010; OMB Number 2070-0177; expires on 03/31/2013; Approved with change.

EPA ICR Number 2380.01; Renewable Fuels Standard Program: Petition and Registration; 40 CFR part 80, subpart M; was approved on 03/26/2010; OMB Number 2060-0637; expires on 03/31/2013; Approved without change.

EPA ICR Number 0595.10; Notice of Pesticide Registration by States to Meet a Special Local Need (SLN) Under FIFRA Section 24(c); 40 CFR part 162, subpart D; 40 CFR 162.153; was approved on 03/26/2010; OMB Number 2070-0055; expires on 03/31/2013; Approved without change.

EPA ICR Number 0795.13; Notification of Chemical Exports—TSCA Section 12(b); 40 CFR part 707, subpart D; was approved on 03/26/2010; OMB Number 2070-0030; expires on 03/31/2013; Approved without change.

EPA ICR Number 2327.02; New Information Collection Activities Related to Electronic Submission of Certain TSCA Section 5 Notices; 40 CFR parts 3, 700, 720, 721, 723 and 725, was approved on 03/29/2010; OMB Number 2070-0173; expires on 03/31/2013; Approved without change.

EPA ICR Number 2343.02; Focus Group Research for Fuel Economy Label Designs for Advanced Technology Vehicles (New Collection); was approved on 03/31/2010; OMB Number 2060-0632; expires on 06/30/2010; Approved with change.

Withdrawn and Continue

EPA ICR Number 2364.01; Affirmative Defence Requirements for Ultra-low Sulfur Diesel; Withdrawn from OMB on 03/16/2010.

Dated: April 1, 2010.
John Moses,
Director, Collections Strategies Division.

[FR Doc. 2010-7873 Filed 4-6-10; 8:45 am]

BILLING CODE 6560-50-P